DEPARTMENT OF COMMERCE

National Oceanic and Atmospheric Administration

RIN 0648-XA586

Pacific Fishery Management Council; Public Meeting

AGENCY: National Marine Fisheries Service (NMFS), National Oceanic and Atmospheric Administration (NOAA), Commerce.

ACTION: Notice of public meetings.

SUMMARY: The Pacific Fishery Management Council's (Pacific Council) ad hoc groundfish Essential Fish Habitat Review Committee (EFHRC) will hold a work session, which is open to the public, to plan the periodic 5-year review of groundfish Essential Fish Habitat (EFH).

DATES: The work session will be held Thursday, October 6, 2011, from 8:30 a.m. to 4 p.m.

ADDRESSES: The meeting will be held at the Pacific Council Office, 7700 NE Ambassador Place, Suite 101, Portland, OR 97220-1384, telephone: (503) 820-2280.

Council address: Pacific Fishery Management Council, 7700 NE Ambassador Place, Suite 101, Portland, OR 97220-1384.

FOR FURTHER INFORMATION CONTACT: Mr. Chuck Tracy, Staff Officer, Pacific Council; telephone: (503) 820-2280.

SUPPLEMENTARY INFORMATION: The purpose of the work session is to review progress and interim products for the groundfish EFH periodic 5-year review. Recommendations are tentatively scheduled to be presented to the Pacific Council at the April, 2012 Council meeting in Seattle, WA.

Although non-emergency issues not contained in the meeting agenda may come before the EFHRC for discussion, those issues may not be the subject of formal EFHRC action during this meeting. EFHRC action will be restricted to those issues specifically listed in this notice and any issues arising after publication of this notice that require emergency action under section 305(c) of the Magnuson-Stevens Fishery Conservation and Management Act, provided the public has been notified of the EFHRC's intent to take final action to address the emergency.

Special Accommodations

This meeting is physically accessible to people with disabilities. Requests for sign language interpretation or other auxiliary aids should be directed to Mr. Kris Kleinschmidt at (503) 820-2280 at least 5 days prior to the meeting date.

Dated: July 18, 2011.
Tracey L. Thompson,
Acting Director, Office of Sustainable Fisheries, National Marine Fisheries Service.

[FR Doc. 2011-18475 Filed 7-21-11; 8:45 am]

BILLING CODE 3510-22-P